DEPARTMENT OF AGRICULTURE

Animal and Plant Health Inspection Service

7 CFR Part 319

[Docket No. APHIS-2014-0041]

RIN 0579-AE01

Importation of Orchids in Growing Media From Taiwan

AGENCY: Animal and Plant Health Inspection Service, USDA.

ACTION: Proposed rule; reopening of comment period.

SUMMARY: We are reopening the comment period for our proposed rule that would amend the regulations governing the importation of plants and plant products to add orchid plants of the genus Oncidium from Taiwan to the list of plants that may be imported into the United States in an approved growing medium, subject to specified growing, inspection, and certification requirements. This action will allow interested persons additional time to prepare and submit comments.

DATES: The comment period for the proposed rule published on December 3, 2014 (79 FR 71703-71705) is reopened. We will consider all comments that we receive on or before March 18, 2015.

ADDRESSES: You may submit comments by either of the following methods:

• Federal eRulemaking Portal: Go to http://www.regulations.gov/#!docketDetail;D=APHIS-2014-0041.

• Postal Mail/Commercial Delivery: Send your comment to Docket No. APHIS-2014-0041, Regulatory Analysis and Development, PPD, APHIS, Station 3A-03.8, 4700 River Road Unit 118, Riverdale, MD 20737-1238.

Supporting documents and any comments we receive on this docket may be viewed at http://www.regulations.gov/#!docketDetail;D=APHIS-2014-0041 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Heather Coady, Regulatory Policy Specialist, Plants for Planting Policy, PPQ, APHIS, 4700 River Road Unit 133, Riverdale, MD 20737; (301) 851-2076.

SUPPLEMENTARY INFORMATION: On December 3, 2014, we published in the Federal Register (79 FR 71703-71705, Docket No. APHIS-2014-0041) a proposal to amend the regulations in 7 CFR 319.37-8(e) by adding Oncidium spp. from Taiwan to the list of plants established in an approved growing medium that may be imported into the United States.

Comments on the proposed rule were required to be received on or before February 2, 2015. We are reopening the comment period on Docket No. APHIS-2014-0041 for an additional 45 days. We will also accept all comments received between February 3, 2015 (the day after the close of the original comment period) and the date of this notice. This action will allow interested persons additional time to prepare and submit comments.

Authority: 7 U.S.C. 450, 7701-7772, and 7781-7786; 21 U.S.C. 136 and 136a; 7 CFR 2.22, 2.80, and 371.3.

Done in Washington, DC, this 6th day of March 2015.
Kevin Shea
Administrator, Animal and Plant Health Inspection Service.

[FR Doc. 2015-05659 Filed 3-11-15; 8:45 am]

BILLING CODE 3410-34-P